DEPARTMENT OF DEFENSE

Department of the Navy

Notice of Public Meetings for the Draft Supplemental Environmental Impact Statement/Overseas Environmental Impact Statement for Gulf of Alaska Navy Training Activities

AGENCY: Department of the Navy, DoD.

ACTION: Notice.

SUMMARY: Pursuant to section 102(2)(c) of the National Environmental Policy Act of 1969, regulations implemented by the Council on Environmental Quality (40 Code of Federal Regulations Parts 1500-1508), and Presidential Executive Order 12114, the Department of the Navy (DoN) has prepared and filed with the U.S. Environmental Protection Agency a Draft Supplemental Environmental Impact Statement/Overseas Environmental Impact Statement (EIS/OEIS). The DoN prepared this analysis to update the Gulf of Alaska Navy Training Activities Final EIS/OEIS, which was completed with community input in May 2011 (hereafter referred to as the 2011 GOA Final EIS/OEIS), and to renew federal regulatory permits and authorizations. In the Draft Supplemental EIS/OEIS, the DoN uses a new acoustic modeling method and evaluates new, relevant information, such as new marine mammal density data and new scientific information, and updates environmental analyses, as appropriate. The DoN analyzes data using the Navy Acoustic Effects Model, not previously available for the 2011 GOA Final EIS/OEIS, to evaluate potential effects on marine species from training activities. The National Marine Fisheries Service is a cooperating agency for this Supplemental EIS/OEIS.

With the filing of the Draft Supplemental EIS/OEIS, the DoN is initiating a 60-day public comment period and has scheduled five public meetings to inform the public and receive comments on the Draft Supplemental EIS/OEIS. This notice announces the dates and locations of the public meetings and provides supplementary information about the environmental planning effort.

Dates And Addresses: The 60-day Draft Supplemental EIS/OEIS public review period will begin August 22, 2014, and end October 20, 2014. The DoN will hold five public meetings to inform the public about the Proposed Action and to provide an opportunity to comment on the adequacy and accuracy of the supplemental environmental analysis. Each of the public meetings will include an open house information session, followed by a short presentation by the DoN. DoN representatives will be available during the open house information sessions to provide information related to the Draft Supplemental EIS/OEIS. Federal, state, and local agencies and officials, as well as interested organizations and individuals are encouraged to provide comments in writing during the public review period or in person at one of the scheduled public meetings.

The public meetings will be held from 5:00 p.m.-8:00 p.m., with a DoN presentation at 6:30 p.m., on the following dates and at the following locations:

1. Monday, September 8, 2014, at the Elks Lodge, 102 W. Marine Way, Kodiak, AK 99615

2. Tuesday, September 9, 2014, at the Z.J. Loussac Library Public Conference Room, 3600 Denali St., Anchorage, AK 99503

3. Wednesday, September 10, 2014, at the Best Western Bidarka Inn Sea Breeze Room, 575 Sterling Highway, Homer, AK 99603

4. Thursday, September 11, 2014, at the Juneau Arts & Humanities Council Main Hall, 350 Whittier St., Juneau, AK 99801

5. Friday, September 12, 2014, at the Mt. Eccles Elementary School Simpler Gymnasium, 201 Adams St., Cordova, AK 99574

Attendees will be able to submit oral and written comments during the public meetings. A court reporter will record oral comments from the public. In the interest of available time, and to ensure all who wish to provide an oral statement to the court reporter have the opportunity to do so, each speaker's comments will be limited to three (3) minutes, which may be extended if meeting attendance permits. Equal weight will be given to oral and written statements. Written comments may also be submitted via mail to Naval Facilities Engineering Command Northwest, Attention: Ms. Amy Burt—GOA Supplemental EIS/OEIS Project Manager, 1101 Tautog Circle, Suite 203, Silverdale, WA 98315-1101, or electronically via the project Web site (www.GOAEIS.com). All comments, oral or written, submitted during the public review period will become part of the public record. All comments will be reviewed or responded to in the Final Supplemental EIS/OEIS. Comments must be postmarked or received online by October 20, 2014, for consideration in the Final Supplemental EIS/OEIS.

FOR FURTHER INFORMATION CONTACT: Naval Facilities Engineering Command Northwest, Attention: Ms. Amy Burt—GOA Supplemental EIS/OEIS Project Manager, 1101 Tautog Circle, Suite 203, Silverdale, WA 98315-1101.

SUPPLEMENTARY INFORMATION: A Notice of Intent to prepare this Supplemental EIS/OEIS was published in the Federal Register on January 16, 2013 (78 FR 3408).

This Supplemental EIS/OEIS is an update to the 2011 GOA Final EIS/OEIS and Record of Decision (ROD). It will support U.S. Pacific Command, Northern Command, and Joint Task Force Commander training requirements to achieve and maintain Fleet readiness as required by Title 10 of the U.S. Code. The DoN's Proposed Action is the same as the Proposed Action presented in the 2011 GOA Final EIS/OEIS and ROD, which is to continue conducting periodic military training activities in a specific area of the Gulf of Alaska called the Temporary Maritime Activities Area. The Temporary Maritime Activities Area and Proposed Action, including the location, number, and frequency of major training exercises, remain unchanged from the 2011 analysis. The DoN evaluated each resource area discussed in the 2011 GOA Final EIS/OEIS to determine if additional analysis is necessary in the Draft Supplemental EIS/OEIS due to new information or new analysis methods.

In this Draft Supplemental EIS/OEIS, the DoN re-evaluates potential impacts from ongoing military training activities conducted in the Temporary Maritime Activities Area. All resource areas were examined to determine the need for re-analysis in this Draft Supplemental EIS/OEIS. The marine mammal resource analysis for each alternative in the 2011 GOA Final EIS/OEIS was updated. For other resource areas, the 2011 analysis remains valid.

The Supplemental EIS/OEIS supports authorization of incidental takes of marine mammals under the Marine Mammal Protection Act and incidental takes of threatened and endangered marine mammal species under the Endangered Species Act, which is required every five years. Current federal regulatory permits and authorizations expire in May 2016.

The cumulative impacts of past, present, and other reasonably foreseeable future actions are expected to result in impacts on marine mammals in the Temporary Maritime Activities Area, but the contribution would be small compared to other actions. The Draft Supplemental EIS/OEIS indicates that the incremental contribution of the No Action Alternative, Alternative 1, or Alternative 2 to all other resource areas analyzed would be negligible.

The Draft Supplemental EIS/OEIS was distributed to federal, state, and local agencies, elected officials, and other interested organizations and individuals.

Copies of the Draft Supplemental EIS/OEIS are available for public review at the following public libraries:

1. Alaska State Library, 333 Willoughby Ave., 8th Floor, Juneau, AK 99811

2. Copper Valley Community Library, Mile 186 Glenn Highway, Glennallen, AK 99588

3. Cordova Public Library, 622 First St., Cordova, AK 99574

4. Homer Public Library, 500 Hazel Ave., Homer, AK 99603

5. Kodiak Public Library, 612 Egan Way, Kodiak, AK 99615

6. Seward Community Library, 239 Sixth Ave., Seward, AK 99664

7. University of Alaska Fairbanks/Elmer E. Rasmuson Library, 310 Tanana Drive, Fairbanks, AK 99775

8. Z.J. Loussac Library, 3600 Denali St., Anchorage, AK 99503

The Draft Supplemental EIS/OEIS is also available for electronic viewing at www.GOAEIS.com. A compact disc of the Draft Supplemental EIS/OEIS will be made available upon written request by contacting: Naval Facilities Engineering Command Northwest, Attention: Ms. Amy Burt—GOA Supplemental EIS/OEIS Project Manager, 1101 Tautog Circle, Suite 203, Silverdale, WA 98315-1101.

Dated: August 14, 2014.
N.A. Hagerty-Ford,
Commander, Office of the Judge Advocate General, U.S. Navy, Federal Register Liaison Officer.

[FR Doc. 2014-20079 Filed 8-21-14; 8:45 am]

BILLING CODE 3810-FF-P